DEPARTMENT OF COMMERCE

International Trade Administration

[A-533-824]

Certain Polyethylene Terephthalate Film, Sheet and Strip from India: Final Results of Antidumping Duty Administrative Review

AGENCY: Import Administration, International Trade Administration, Department of Commerce.

SUMMARY: On August 12, 2004, the Department of Commerce (the Department) published the preliminary results of the administrative review of the antidumping duty order on polyethylene terephthalate film, sheet and strip (PET film) from India. The review covers PET film exported to the United States by Jindal Polyester Ltd. (Jindal) during the period from December 21, 2001, through June 30, 2003. We provided interested parties with an opportunity to comment on the preliminary results of review. After analyzing the comments received, we have made changes to the margin calculation. The final weighted-average dumping margin for the reviewed firm is listed below in the section entitled, “Final Results of Review.”

EFFECTIVE DATE: February 17, 2005.

FOR FURTHER INFORMATION CONTACT: Jeff Pedersen or Drew Jackson, AD/CVD Operations, Office 4, Import Administration, International Trade Administration, U.S. Department of Commerce, 14th and Constitution Avenue, NW, Washington, DC 20230; telephone: (202) 482-2769 or (202) 482-4406, respectively.

SUPPLEMENTARY INFORMATION:

Background

On August 12, 2004, the Department published in the Federal Register the preliminary results of the administrative review of the antidumping duty order on PET film from India. See Certain Polyethylene Terephthalate Film, Sheet and Strip From India: Preliminary Results and Rescission in Part of Antidumping Duty Administrative Review, 69 FR 49872 (August 12, 2004) (Preliminary Results). In response to the Department's invitation to comment on the Preliminary Results, Jindal, the sole respondent, Valencia Specialty Films (Valencia), a U.S. importer, and the petitioners filed ¹ case briefs on September 13, 2004. Jindal, Valencia, and the petitioners filed rebuttal briefs on September 23, 2004. In response to requests from Valencia and Jindal, a hearing was held on September 30, 2004.

¹ The petitioners in this review are Dupont Teijin Films, Mitsubishi Polyester Film of America, Toray Plastics (America) and SKC America, Inc.

On December 14, 2004, the Department published in the Federal Register a notice of extension of the final results of review. See Certain Polyethylene Terephthalate Film, Sheet and Strip from India: Extension of Time Limit for Final Results of Antidumping Duty Administrative Review, 69 FR 74495.

The Department has conducted this administrative review in accordance with section 751 of the Tariff Act of 1930, as amended (the Act).

Scope of the Review

The products covered by the order are all gauges of raw, pretreated, or primed PET film, whether extruded or coextruded. Excluded are metallized films and other finished films that have had at least one of their surfaces modified by the application of a performance-enhancing resinous or inorganic layer of more than 0.00001 inches thick. Imports of PET film are currently classifiable in the Harmonized Tariff Schedule of the United States (HTSUS) under item number 3920.62.00. HTSUS subheadings are provided for convenience and customs purposes. The written description of the scope of this order is dispositive.

Period of Review

The period of review (POR) is December 21, 2001, through June 30, 2003.

Analysis of Comments Received

All issues raised by interested parties in their case briefs are addressed in the “Issues and Decision Memorandum” from Barbara E. Tillman, Acting Deputy Assistant Secretary for Import Administration, to Joseph A. Spetrini, Acting Assistant Secretary for Import Administration (Issues and Decision Memorandum). The Issues and Decision Memorandum is dated concurrently with this notice and is hereby adopted by this notice. A list of the issues which the parties have raised is attached to this notice as an appendix. Parties can find a complete discussion of all issues raised in this administrative review, and the corresponding recommendations, in the Issues and Decision Memorandum which is on file in the Central Records Unit, room B-099 of the main Department of Commerce building. In addition, a complete version of the Issues and Decision Memorandum can be accessed directly on the Web at “http://ia.ita.doc.gov.” The paper copy and the electronic version of the Issues and Decision Memorandum are identical in content.

Changes Since the Preliminary Results

Based on our analysis of comments received, we made the following changes in the comparison and margin calculation programs.

1. Based on import data supplied by U.S. Customs and Border Protection (CBP), we have found that certain importers did not deposit countervailing duties (CVDs) on their imports of PET film. The entries that we examined correspond with the U.S. sales reported to the Department by Jindal. Because the evidence on the record indicates no CVDs will be “imposed” for these entries, for the final results of review, we will not increase the U.S. prices of particular sales in accordance with the export subsidy offset provision, section 772(c)(1)(C) of the Act.

2. We corrected ministerial errors related to the treatment of excise duties, billing adjustments and the application of exchange rates to marine insurance and inland freight to the Indian port.

Final Results of Review

We determine that the following weighted-average percentage margin exists for the period December 21, 2001, through June 30, 2003:

Manufacturer/Exporter | Margin (percent)
Jindal Polyester Ltd. | 6.28

Cash Deposit Requirements

The following cash deposit requirements will be effective upon publication of this notice of final results of administrative review for all shipments of PET film from India entered, or withdrawn from warehouse, for consumption on or after the date of publication of this notice, as provided by section 751(a)(1) of the Act: (1) the cash deposit rate for Jindal will be the rate shown above; (2) for previously investigated companies not listed above, the cash deposit rate will continue to be the company-specific rate published in the investigation; (3) if the exporter is not a firm covered in this review, or the original less-than-fair-value (LTFV) investigation, but the manufacturer is, the cash deposit rate will be the rate established for the most recent period for the manufacturer of the merchandise; and (4) if neither the exporter nor the manufacturer is a firm covered by any segment of this proceeding, the cash deposit rate will be the “all others” rate of 24.14 percent established in the LTFV investigation, adjusted for the export subsidy rate found in the CVD investigation, which results in a cash deposit rate of 5.71 percent. These deposit requirements, when imposed, shall remain in effect until publication of the final results of the next administrative review.

Assessment

The Department will determine, and CBP shall assess, antidumping duties on all appropriate entries. In accordance with 19 C.F.R. § 351.212(b)(1), the Department has calculated importer/customer-specific assessment rates for merchandise subject to this review. Where the importer/customer-specific assessment rate is above de minimis, we will instruct CBP to assess the calculated assessment rate against the entered customs value (or quantity if we do not have entered value) of the subject merchandise on each of the importer's/customer's entries during the POR. The Department will issue the appropriate assessment instructions directly to CBP within 15 days of publication of these final results of review.

Reimbursement of Duties

This notice also serves as a final reminder to importers of their responsibility under 19 C.F.R. § 351.402(f)(2) to file a certificate regarding the reimbursement of antidumping duties or CVDs prior to liquidation of the relevant entries during this review period. Failure to comply with this requirement may result in the Secretary's presumption that reimbursement of antidumping and/or CVDs occurred and the subsequent increase in antidumping duties by the full amount of the antidumping and/or CVDs reimbursed.

Administrative Protective Orders

This notice also serves as the only reminder to parties subject to administrative protective orders (APOs) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i)(1) of the Act.

Dated: February 8, 2005.
Joseph A. Spetrini,
Acting Assistant Secretary for Import Administration.

Appendix Issues in Decision Memorandum

Comment 1: Whether Jindal Polyester Limited and Valencia Specialty Films Were Affiliated During the First Three Months of the Period of Review

Comment 2: Whether Jindal and Valencia Were Affiliated During the Remainder of the Period of Review

Comment 3: Whether it is Appropriate to Apply Partial Adverse Facts Available

Comment 4: Whether the Department Applied the Appropriate Adverse Facts Available Rate

Comment 5: Whether Jindal Polyester Limited Properly Classified Certain Merchandise as Non-prime Merchandise

Comment 6: Whether the Department Incorrectly Converted the Currency of Certain Movement Expenses

Comment 7: Whether the Department Incorrectly Calculated Home Market Billing Adjustments

Comment 8: Whether the Department Incorrectly Calculated the Net Home Market Price

Comment 9: Whether the Department Should Offset its Calculations for Negative Dumping Margins

Comment 10: Whether to Increase the Price of Certain U.S. Sales by Countervailing Duties Imposed to Offset Export Subsidies

[FR Doc. E5-658 Filed 2-16-05; 8:45 am]

BILLING CODE 3510-DS-S